DEPARTMENT OF THE INTERIOR

National Park Service

[N6446; NPS-WASO-NAGPRA-NPS0040856; PPWOCRADN0-PCU00RP14.R50000]

Notice of Intended Repatriation: Southern Ute Cultural Center and Museum, Ignacio, CO

AGENCY: National Park Service, Interior.

ACTION: Notice.

SUMMARY: In accordance with the Native American Graves Protection and Repatriation Act (NAGPRA), the Southern Ute Cultural Center and Museum (SUCCM) intends to repatriate certain cultural items that meet the definition of sacred objects and that have a cultural affiliation with the Indian Tribes or Native Hawaiian organizations in this notice.

DATES: Repatriation of the cultural items in this notice may occur on or after September 22, 2025.

ADDRESSES: Send additional, written requests for repatriation of the cultural items in this notice to Tallias Cantsee, Southern Ute Cultural Center and Museum, 398 Ouray Drive (737), Ignacio, CO 81137, email tcantsee@southernute-nsn.gov.

SUPPLEMENTARY INFORMATION: This notice is published as part of the National Park Service's administrative responsibilities under NAGPRA. The determinations in this notice are the sole responsibility of the Southern Ute Cultural Center and Museum, and additional information on the determinations in this notice, including the results of consultation, can be found in the summary or related records. The National Park Service is not responsible for the determinations in this notice.

Abstract of Information Available

A total of four cultural items have been requested for repatriation. The four sacred objects are three full pipestone stemmed hand carved Pipestone pipes and one lead banded pipestone pipe bowl that were donated to SUCCM in 2023.

These items were donated to SUCCM as a preservation effort by the donor to return a Pan-Native American collection that was being held in a basement and actively deteriorating due to uncontrolled environmental conditions. The donating party historically traded with Tribes in the early 1900's. While there was little to no provenience that accompanied the pipes, SUCCM researched pipes in the historical photographic record of similar institutions. According to the preponderance of evidence the Tribe that was creating and being photographed with full pipestone stemmed pipes, historically are the Lakota. The full pipestone stemmed pipes being a Lakota product was also confirmed with the Yankton Sioux Tribe THPO. The Yankton Sioux Tribe has also acknowledged that they are the Lakota Tribe for deferral in all pipe matters.

Determinations

The Southern Ute Cultural Center and Museum has determined that:

• The four sacred objects described in this notice are specific ceremonial objects needed by a traditional Native American religious leader for present-day adherents to practice traditional Native American religion, according to the Native American traditional knowledge of a lineal descendant, Indian Tribe, or Native Hawaiian organization.

• There is a connection between the cultural items described in this notice and the Yankton Sioux Tribe of South Dakota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 22, 2025. If competing requests for repatriation are received, the Southern Ute Cultural Center and Museum must determine the most appropriate requestor prior to repatriation. Requests for joint repatriation of the cultural items are considered a single request and not competing requests. The Southern Ute Cultural Center and Museum is responsible for sending a copy of this notice to the Indian Tribes and Native Hawaiian organizations identified in this notice and to any other consulting parties.

Authority: Native American Graves Protection and Repatriation Act, 25 U.S.C. 3004 and the implementing regulations, 43 CFR 10.9.

Dated: August 6, 2025.
Melanie O'Brien,
Manager, National NAGPRA Program.

[FR Doc. 2025-15977 Filed 8-20-25; 8:45 am]

BILLING CODE 4312-52-P